DEPARTMENT OF AGRICULTURE

Agricultural Marketing Service

[Docket Number FV-04-308]

United States Standards for Grades of Sweet Peppers

AGENCY: Agricultural Marketing Service, USDA.

ACTION: Notice.

SUMMARY: The Agricultural Marketing Service (AMS) of the Department of Agriculture (USDA) is revising the United States Standards for Grades of Sweet Peppers. The revision will allow sweet peppers to be marketed as mixed varieties and/or colors when marked with more than one variety or color on the container. The decay tolerance will be revised to include only those sweet peppers which are affected by decay on the wall and/or calyx. Decay affecting only stems will no longer fall under the restricted decay tolerance. It will be scored against the five percent serious damage tolerance for U.S. Fancy and U.S. No 1 grades and against the five percent restrictive tolerance for the U.S. No. 2 grade. The requirement to designate peppers which fail to meet the color requirements of their respective grades or respective (color specified) grade will be made optional. The “Unclassified” section will be deleted. The purpose for this revision is to update and revise the standards to accurately represent today's marketing practices.

DATES: Effective Date: November 17, 2005.

FOR FURTHER INFORMATION CONTACT: Cheri Emery, Standardization Section, Fresh Products Branch, Fruit and Vegetable Programs, Agricultural Marketing Service, U.S. Department of Agriculture, 1400 Independence Avenue, SW., Room 1661 South Building, STOP 0240, Washington, DC 20250-0240, Fax (202) 720-8871 or call (202) 720-2185; E-mail Cheri.Emery@usda.gov. The revised United States Standards for Grades of Sweet Peppers will be available either through the address cited above or by accessing the Fresh Products Branch website at http://www.ams.usda.gov/standards/stanfrfv.htm.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” The Agricultural Marketing Service (AMS) is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA/AMS/Fruit and Vegetable Programs.

AMS is revising the voluntary U.S. Standards for Grades of Sweet Peppers using procedures that appear in Part 36 Title 7 of the Code of Federal Regulations (7 CFR part 36). These standards were last revised in 1989.

Background

On June 15, 2004, AMS published a notice in the Federal Register (69 FR 33345) soliciting comments on the possible revision to the United States Standards for Grades of Sweet Peppers. AMS received three comments in response to the notice. Two comments were in favor of revising the decay tolerance. The decay tolerance will be revised to include only those sweet peppers which are affected by decay on the wall and/or calyx. Decay affecting only stems will no longer fall under the restricted two percent decay tolerance, it will be scored against the five percent serious damage tolerance for U.S. Fancy and U.S. No 1 grades and against the five percent restrictive tolerance for the U.S. No. 2 grade. The third comment was not in favor of changing the decay tolerance. In addition, this commenter requested changes for sizing and color issues within the standard.

A second notice was published in the March 11, 2005, Federal Register (70 FR 12176-7) based on three comments received from the first notice. AMS received two comments in response to the second notice. One comment was in favor of the proposed revision to the standards changing the scoring of decay by separating stem decay from decay affecting the walls and/or calyxes. The other comment was opposed to those changes. The comments are available by accessing AMS's Home Page on the Internet at http://www.ams.usda.gov/fv/fpbdocketlist.htm.

One comment from an industry association which represents growers, packers and shippers, is in favor of the revision to the decay tolerance. The commenter stated the change will have a positive impact on the marketing of sweet peppers.

One comment opposing the revision to the decay tolerance stated that all decay has a serious negative impact on the appearance and marketability of the product and requested not to change the decay scoring and reporting. The commenter also stated that decay affecting the stems, walls, and calyxes should be scored against any grade (requirements and tolerances). AMS has reviewed stem decay affecting various commodities and believes the proposed changes would bring sweet peppers in line with other grade standards with respect to stem decay. Decay affecting the stem only does not affect the edible portion of the sweet pepper, and does not affect the marketability to the same degree as decay affecting the wall and/or calyx. AMS believes a revision to the decay tolerance is warranted to best serve the industry.

Current marketing practices for specialty packs which include mixed varieties and/or colors of sweet peppers would not meet the similar varietal characteristic requirements for all grades in the standards. Accordingly, AMS is revising the similar varietal requirement to allow mixed varieties and/or colors of sweet peppers when containers are marked with more than one variety and/or color.

AMS will also eliminate the unclassified category. This section is not a grade and only serves to show that no grade has been applied to the lot. This section will be removed from all fresh fruit and vegetable standards. It is no longer considered necessary.

AMS requested comments on industry terms for size based on 1⅑ bushel containers. AMS received a comment in favor of developing size requirements. The commenter also requested size definitions (small, medium, large, extra large and jumbo) for peppers packed in 1⅑ bushel containers which are based on a count per container, as well as minimum diameters and lengths for each category. Further, the commenter requested marking requirements which would require cartons to be marked by count and/or size. AMS is not changing the current size requirements. The commenter's study submitted was based on only twenty-two cartons that contained five size categories. A greater number of statistical samples of each size would need to be submitted for consideration. Further, AMS believes it would be impractical to apply such requirements due to the various varietal characteristics of sweet peppers regarding shape and size, and the lack of a standardized container within the industry.

The official grade of a lot of sweet peppers covered by these standards are determined by the procedures set forth in the Regulations Governing Inspection, Certification, and Standards of Fresh Fruits, Vegetables and Other Products (Sec. 51.1 to 51.61).

The U.S. Standards for Grades of Sweet Peppers will become effective 30 days after publication of this notice in the Federal Register.

Authority: 7 U.S.C. 1621-1627.

Dated: October 13, 2005.
Lloyd C. Day,
Administrator, Agricultural Marketing Service.

[FR Doc. 05-20860 Filed 10-17-05; 8:45 am]

BILLING CODE 3410-02-P